DEPARTMENT OF COMMERCE

International Trade Administration

[A-580-829]

Stainless Steel Wire Rod From Korea: Amendment of Final Determination of Sales at Less Than Fair Value Pursuant to Court Decision

AGENCY: Import Administration, International Trade Administration, Department of Commerce.

ACTION: Amendment of final determination of sales at less than fair value pursuant to Court Decision.

SUMMARY: On April 10, 2001, the United States Court of International Trade (CIT) affirmed the determination made by the Department of Commerce (the Department) pursuant to a remand of the final antidumping duty determination of sales at less than fair value on stainless steel wire rod from Korea. Al Tech Specialty Steel Corp., et. al., v. United States, Slip Op. 01-41 (CIT April 10, 2001). In the remand determination, the Department reclassified Changwon Specialty Steel Co., Ltd.'s (Changwon's) U.S. sales as constructed export price (CEP) sales. As this decision is now final and conclusive, we are amending the final determination.

EFFECTIVE DATE: August 7, 2001.

FOR FURTHER INFORMATION CONTACT: Alexander Amdur, Import Administration, International Trade Administration, U.S. Department of Commerce, 14th Street and Constitution Avenue, NW., Washington, DC 20230; telephone: (202) 482-5346.

SUPPLEMENTARY INFORMATION:

Background

On July 29, 1998, the Department published in the Federal Register a notice of final determination of sales at less than fair value on stainless steel wire rod from Korea. See Notice of Final Determination of Sales at Less than Fair Value: Stainless Steel Wire Rod from Korea, 63 FR 40404 (July 29, 1998) (Final Determination). On September 15, 1998, the Department published in the Federal Register a notice of amendment of final determination of sales at less than fair value and antidumping duty order on stainless steel wire rod from Korea. See Notice of Amendment of Final Determination of Sales at Less Than Fair Value and Antidumping Duty Order: Stainless Steel Wire Rod From Korea, 63 FR 49331 (September 15, 1998) (Amended Final Determination). The petitioners in this case, Al Tech Specialty Steel Corporation, Carpenter Technology Corp., Republic Engineered Steels, Talley Metals Technology, Inc., and United Steelworkers of America, AFL-CIO/CLC, subsequently appealed the Department's determination before the CIT on one issue, the classification of Changwon's U.S. sales. The CIT issued a remand, at Commerce's request, to reconsider this issue in light of the decision of the U.S. Court of Appeals for the Federal Circuit (Federal Circuit) in AK Steel v. United States, 226 F.3d 1330 (Fed. Cir. 2000) (AK Steel),¹ which was issued during the pendency of the litigation. Al Tech Specialty Steel Corp., et al., v. United States, Court No. 98-10-03054 (CIT October 31, 2000) (order granting voluntary remand) (Al Tech).

¹ Note, on February 23, 2000, the Federal Circuit first issued an opinion in AK Steel, No. 99-1296. See 203 F.3d 1330 (Fed. Cir. 2000). The Korean producers then filed a petition for rehearing and suggestion for rehearing en banc. The Federal Circuit granted the petition for rehearing for the limited purpose of clarifying the Court's opinion. As a result, the Court withdrew the previous opinion and issued a revised opinion on September 12, 2000. See AK Steel, 226 F.3d 1330 (Fed. Cir. 2000). All references to AK Steel in this notice refer to the revised, September 12, 2000, opinion.

The Department filed its redetermination on remand on February 9, 2001. The Department, for purposes of the remand, reclassified Changwon's U.S. sales as CEP sales. On April 10, 2001, the CIT affirmed the Department's remand determination. Al Tech Specialty Steel Corp., et. al., v. United States, Slip Op. 01-41 (CIT April 10, 2001). No parties have appealed this decision.

As a result of the remand determination, the final dumping margins are as follows:

Manufacturer | Margin (percent)
Changwon, Pohang Iron and Steel Co., Ltd., and Dongbang Special Steel Co., Ltd | 5.77
Sammi Steel Co., Ltd | ¹ 28.44
All Others | 5.77
¹ Unchanged from the Amended Final Determination

Cash Deposit Requirements

The Department will direct the United States Customs Service to require, on or after the date of publication of this notice in the Federal Register, the cash deposit rates listed above for the subject merchandise. These cash deposit requirements, when imposed, shall remain in effect until publication of the final results of an administrative review of this order.

Dated: July 20, 2001.
Faryar Shirzad,
Assistant Secretary for Import Administration.

[FR Doc. 01-19779 Filed 8-6-01; 8:45 am]

BILLING CODE 3510-DS-P